DEPARTMENT OF THE INTERIOR

Bureau of Land Management

[NM-030-1430-DN; NMNM117880]

Notice of Intent to Prepare an Amendment to the Mimbres Resource Management Plan (RMPA), and Associated Environmental Assessment (EA), Las Cruces District, New Mexico

AGENCY: Bureau of Land Management (BLM), Interior.

ACTION: Notice of intent.

SUMMARY: The BLM Las Cruces District Office, New Mexico, intends to prepare an amendment to the Mimbres RMPA and associated EA to analyze the possible disposal, by either exchange or sale, of up to 6,002 acres of BLM-administered public land in Dona Ana County in southwestern New Mexico.

DATES: The BLM will announce public scoping meetings to identify relevant issues through local news media, newsletters, and the BLM Web site (http://www.blm.gov/nm) at least 15 days prior to the first meeting. We will provide formal opportunities for public participation upon publication of the Draft RMPA/EA.

ADDRESSES: You may submit comments by any of the following methods:

• Web site: http://www.blm.gov/nm.

• E-mail: nm_darmpea@blm.gov.

• Mail: District Manager, BLM, Las Cruces District Office, 1800 Marquess Street, Las Cruces, New Mexico 88005.

• Fax: (575) 525-4412.

• Personal delivery to the Las Cruces District Office: see address above.

Documents pertinent to this proposal may be examined at the Las Cruces District Office at the above address. The 1993 Mimbres RMP is also posted on the following BLM Web site: http://www.blm.gov/nm

FOR FURTHER INFORMATION: To have your name added to our mailing list, contact Lorraine J. Salas, Realty Specialist, at the Las Cruces District Office, 1800 Marquess Street, Las Cruces, New Mexico; telephone number (575) 525-4388; or e-mail at nm_darmpea@blm.gov.

SUPPLEMENTARY INFORMATION: This document provides notice that the BLM District Office, Las Cruces, New Mexico, intends to prepare a RMPA/EA for the Mimbres Planning Area and announces public scoping meetings.

The BLM is currently considering disposing of 6,002 acres. The public land proposed for disposal is currently identified for retention in Federal ownership in the 1993 Membres RMP. The RMP must, therefore, be amended to identify the public land as suitable for exchange and/or sale. The land proposed for disposal is described as follows:

New Mexico Principal Meridian

T. 24 S., R. 1 E.

Section 6.

T. 24 S., R. 1 W.

Section 1, Section 11, Section 12.

T. 27 S. R. 1 E.

Section 13, W½NW¼SW¼, SE¼NW¼SW¼, NW¼SW¼SW¼, NE¼SW¼SW¼, SE¼SW¼SW¼, W½SE¼SW¼, SE¼SE¼SW¼;

Section 14, W½NW¼NE¼, SE¼NW¼NE¼, NW¼SW¼NE¼, NE¼SW¼NE¼, SE¼SW¼NE¼, W½SE¼NE¼, SE¼SE¼NE¼, NW¼NE¼SE¼, NE¼NE¼SE¼, SE¼NE¼SE¼;

Section 24, W½NW¼NE¼, SE¼NW¼NE¼, NW¼SW¼NE¼, NE¼SW¼NE¼, SE¼SW¼NE¼, W½SE¼NE¼, SE¼SE¼NE¼, NW¼NE¼NW¼, NE¼NE¼NW¼, SE¼NE¼NW¼, NW¼NE¼SE¼, NE¼NE¼SE¼, SE¼NE¼SE¼, NE¼SE¼SE¼.

T. 27 S., R. 2 E.

Section 19, Lots 3 and 4, SW¼SE¼SW¼;

Section 29, SW¼NW¼SW¼, SW¼SW¼, SW¼, SE¼SW¼;

Section 30, Lot 1, SW¼NW¼NE¼, SW¼NE¼, SW¼SE¼NE¼, NE¼NW¼, NE¼SE¼NW¼, NE¼SE¼, NE¼NW¼SE¼, NE¼SE¼SE¼;

Section 33, SW¼NW¼SW¼, SW¼SW¼, SW¼SE¼SW¼.

T. 28 S., R. 2 E.

Section 3, SW¼NW¼SW¼, W½SW¼SW¼, SE¼SW¼SW¼;

Section 4, Lots 2, 3, and 4, SW¼NE¼, SW¼SE¼NE¼, S½NW¼, S½;

Section 5, Lots 1 and 2, N½SE¼NE¼, SE¼SE¼NE¼;

Section 9, All;

Section 10, Lots 1, 2, 3, 6, and 7, SW¼NW¼, SW¼, SW¼SE¼;

Section 14, Lots 3 and 4, SW¼NW¼, N½SW¼, SW¼SW¼;

Section 15, All.

The planning area is located in Dona Ana County, New Mexico. This planning activity encompasses approximately 6,002 acres of public land. The Plan will fulfill the needs and obligations set forth by the National Environmental Policy Act (NEPA), the Federal Land Policy and Management Act (FLPMA), and BLM management policies. The BLM will work collaboratively with interested parties to identify the management decisions that are best suited to local, regional, and National needs and concerns.

The purpose of the public scoping process is to determine relevant issues that will influence the scope of the environmental analysis and EA alternatives. These issues also guide the planning process. You may submit comments on issues and planning criteria in writing to the BLM at any public scoping meeting, or you may submit them to the BLM using one of the methods listed in the ADDRESSES section above. To be most helpful, you should submit formal scoping comments within 30 days after the last public meeting. Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety. The minutes and list of attendees for each scoping meeting will be available to the public and open for 30 days after the meeting to any participant who wishes to clarify the views he or she expressed.

Preliminary issues and management concerns have been identified by BLM personnel, other agencies, and in meetings with individuals and user groups. They represent the BLM's knowledge to date regarding the existing issues and concerns with current land management. The major issues that will be addressed in this planning effort include: wildlife and riparian habitat, rangeland resources, recreation, hazardous materials, and cultural resources.

After public comments, as to what issues the Plan should address are gathered, they will be placed in one of three categories:

1. Issues to be resolved in the Plan;

2. Issues to be resolved through policy or administrative action; or

3. Issues beyond the scope of this Plan.

The BLM will provide an explanation in the Plan as to why an issue was placed in category two or three. In addition to these major issues, a number of management questions and concerns will be addressed in the Plan. The public is encouraged to help identify these questions and concerns during the scoping phase.

Preliminary planning criteria are:

1. The RMPA/EA process will be in compliance with FLPMA, NEPA, and applicable laws, regulations, and policies. The land use plan amendment process will be governed by the planning regulations at 43 CFR 1610 and BLM Land Use Planning Handbook H-1601-1.

2. Lands affected by the proposed plan amendment only apply to public surface and mineral estate managed by the BLM. No decisions will be made relative to non-BLM administered lands or non-Federal minerals.

3. Public participation will be an integral part of the planning process.

4. The plan amendment will recognize all valid existing rights.

5. The BLM will work with cooperating agencies, tribal governments, and other interested groups, agencies, and individuals during the RMPA/EA process.

6. The RMPA/EA will strive to be consistent with existing non-Federal plans and policies, provided the decisions in the existing plans are consistent with the purposes, policies, and programs of Federal law and regulations for BLM public land.

The BLM will use an interdisciplinary approach to develop the Plan in order to consider the variety of resource issues and concerns identified. Specialists with expertise in the following disciplines will be involved in the planning process: realty, recreation, cultural, minerals, range, wildlife, and hazardous materials.

Dated: December 21, 2007.
Linda S.C. Rundell,
State Director.

[FR Doc. 07-6282 Filed 1-11-08; 8:45 am]

BILLING CODE 4310-VC-M